DEPARTMENT OF ENERGY

Federal Energy Regulatory Commission

Combined Notice of Filings

Take notice that the Commission has received the following Natural Gas Pipeline Rate and Refund Report filings:

Filings Instituting Proceedings

Docket Numbers: RP14-540-000.

Applicants: Paiute Pipeline Company.

Description: Compliance filing per 154.501: Refund Report.

Filed Date: 5/8/15.

Accession Number: 20150508-5126.

Comments Due: 5 p.m. ET 6/17/15.

Docket Numbers: RP15-1050-000.

Applicants: Texas Eastern Transmission, LP.

Description: § 4(d) rate filing per 154.204: TETLP Cleanup Filing June 2015 to be effective 7/9/2015.

Filed Date: 6/8/15.

Accession Number: 20150608-5100.

Comments Due: 5 p.m. ET 6/22/15.

Docket Numbers: RP15-1051-000.

Applicants: Northern Natural Gas Company.

Description: § 4(d) rate filing per 154.204: 20150608 Negotiated Rate to be effective 7/9/2015.

Filed Date: 6/8/15.

Accession Number: 20150608-5134.

Comments Due: 5 p.m. ET 6/22/15.

Docket Numbers: RP15-1052-000.

Applicants: Discovery Gas Transmission LLC.

Description: Compliance filing per 154.203: Order No. 801 Compliance Filing (System Map Migration to Web site) to be effective 7/9/2015.

Filed Date: 6/9/15.

Accession Number: 20150609-5079.

Comments Due: 5 p.m. ET 6/22/15.

Docket Numbers: RP15-1053-000.

Applicants: Black Marlin Pipeline Company.

Description: Compliance filing per 154.203: Order 801 Compliance—System Map Migration to Web site to be effective 7/9/2015.

Filed Date: 6/9/15.

Accession Number: 20150609-5109.

Comments Due: 5 p.m. ET 6/22/15.

Docket Numbers: RP15-1054-000.

Applicants: Texas Eastern Transmission, LP.

Description: § 4(d) rate filing per 154.204: Negotiated Rate—BP Energy 8937271 to be effective 7/1/2015.

Filed Date: 6/10/15.

Accession Number: 20150610-5047.

Comments Due: 5 p.m. ET 6/22/15.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP15-1044-001.

Applicants: Algonquin Gas Transmission, LLC.

Description: Tariff Amendment per 154.205(b): Amendment to RP15-1044-000 Filing to be effective 7/1/2015.

Filed Date: 6/9/15.

Accession Number: 20150609-5130.

Comments Due: 5 p.m. ET 6/17/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated June 10, 2015.
Nathaniel J. Davis, Sr.,
Deputy Secretary.

[FR Doc. 2015-14893 Filed 6-16-15; 8:45 am]

BILLING CODE 6717-01-P